DEPARTMENT OF COMMERCE

International Trade Administration

19 CFR Part 351

[Docket No. 0612243022-1049-01]

RIN 0625-AA66

Interim Final Rule on Certification of Factual Information To Import Administration During Antidumping and Countervailing Duty Proceedings: Reopening of Rebuttal Comment Period

AGENCY: Import Administration, International Trade Administration, Department of Commerce.

ACTION: Notice of reopening of rebuttal comment period.

SUMMARY: The Department of Commerce (“the Department”) is reopening the public comment period for the submission of rebuttal comments on the Interim Final Rule on Certification of Factual Information to Import Administration During Antidumping and Countervailing Duty Proceedings due to recent technical difficulties with filing comments on the Federal eRulemaking Portal (“Portal”).

DATES: The submission period for public rebuttal comments is reopened through July 14, 2011.

ADDRESSES: All rebuttal comments must be submitted through the Portal at http://www.regulations.gov, Docket No. ITA-2010-0007, unless the commenter does not have access to the Internet. Commenters who do not have access to the Internet may submit the original and two copies of each set of comments by mail or hand delivery/courier. All rebuttal comments should refer to RIN 0625-AA66 and should be addressed to Ronald K. Lorentzen, Deputy Assistant Secretary for Import Administration, Room 1870, Department of Commerce, 14th Street and Constitution Ave., NW., Washington, DC 20230.

The Department will consider all rebuttal comments received before the close of the reopened comment period. The Department will not accept rebuttal comments accompanied by a request that part or all of the material be treated confidentially because of its business proprietary nature or for any other reason. All comments will be a matter of public record and will be available for inspection at Import Administration's Central Records Unit (Room 7046 of the Herbert C. Hoover Building) and on the Portal at www.Regulations.gov and the Department's Web site at http://www.trade.gov/ia/.

FOR FURTHER INFORMATION CONTACT: Rebecca Cantu, Attorney, Office of the General Counsel, Office of Chief Counsel for Import Administration, or Myrna Lobo, International Trade Compliance Analyst, Office 6, Import Administration, U.S. Department of Commerce, 1401 Constitution Ave., NW., Washington, DC 20230, 202-482-4618 or 202-482-2371, respectively.

SUPPLEMENTARY INFORMATION: The Interim Final Rule for the Certification of Factual Information to Import Administration During Antidumping and Countervailing Duty Proceedings (“Interim Final Rule”) published on February 10, 2011 (76 FR 7491). In the notice announcing the Interim Final Rule, the Department stated that comments would be accepted until May 11, 2011 and rebuttal comments until June 27, 2011. Due to technical difficulties with the Portal, several interested parties were unable to submit their rebuttal comments within the established rebuttal comment filing period.

Based on these circumstances, the Department is reopening the rebuttal period through July 14, 2011, to provide interested parties an opportunity to file their rebuttal comments. The Department will accept rebuttal comments filed no later than July 14, 2011 and does not intend to consider any further extensions to the rebuttal comment period. The Department requests that those parties who previously submitted rebuttal comments refile their rebuttal comments during this period to ensure that the Department receives all rebuttal comments. The Department notes that the established period for submitting affirmative comments ended May 11, 2011 and was not extended. As such, this notice serves to extend the period for submission of rebuttal comments only; any new affirmative comments will not be accepted by the Department.

Requirements for On-Line Submissions

In order to ensure the timely receipt and consideration of comments, the Department's International Trade Administration requires commenters to make on-line submissions, using the http://www.regulations.gov Web site unless they do not have access to the Internet. Rebuttal comments should be submitted under docket number ITA-2010-0007. To find this docket, enter the docket number in the “Enter Keyword or ID” window at the http://www.regulations.gov home page and click “Search.” The site will provide a search-results page listing all documents associated with that docket number. Find a reference to the Interim Final Rule notice by selecting “Rule” under “Document Type” on the search-results page, and click on the link entitled “Submit a Comment.” The http://www.regulations.gov Web site provides the option of making submissions by filling in a comments field, or by attaching a document. ITA prefers submissions to be provided in an attached document. (For further information on using the http://www.regulations.gov Web site, please consult the resources provided on the Web site by clicking on the “Help” tab.)

Any other questions concerning file formatting, document conversion, access on the Internet, or other electronic filing issues should be addressed to Andrew Lee Beller, Import Administration Webmaster, at (202) 482-0866, e-mail address: webmaster-support@ita.doc.gov.

Dated: June 30, 2011.
Ronald K. Lorentzen,
Deputy Assistant Secretary for Import Administration.

[FR Doc. 2011-17067 Filed 7-6-11; 8:45 am]

BILLING CODE 3510-DS-P